DEPARTMENT OF EDUCATION

National Assessment Governing Board; Meeting

AGENCY: Department of Education, National Assessment Governing Board.

ACTION: Notice of open meeting and partially closed meetings.

SUMMARY: The notice sets forth the schedule and proposed agenda of a forthcoming meeting of the National Assessment Governing Board. This notice also describes the functions of the Board. Notice of this meeting is required under Section 10(a)(2) of the Federal Advisory Committee Act. This document is intended to notify members of the general public of their opportunity to attend. Individuals who will need special accommodations in order to attend the meeting (i.e.; interpreting services, assistive listening devices, materials in alternative format) should notify Munira Mwalimu at 202-357-6938 or at Munira.Mwalimu@ed.gov no later than April 30, 2009. We will attempt to meet requests after this date, but cannot guarantee availability of the requested accommodation. The meeting site is accessible to individuals with disabilities.

DATES: May 14-16, 2009.

Times:

May 14

Committee Meetings:

Assessment Development Committee: Closed Session—8:30 a.m. to 10:30 a.m.; Open Session—10:30 a.m. to 2 p.m.

Ad Hoc Committee on NAEP Testing and Reporting on Students with Disabilities and English Language Learners

Open Session—2 p.m. to 4 p.m.

Executive Committee: Open Session—4:30 p.m. to 5 p.m.; Closed Session—5 p.m. to 6 p.m.

May 15

Full Board: Open Session—8:30 a.m. to 9:30 a.m.; Closed Session—12:30 p.m. to 2:45 p.m.; Open Session—3 p.m. to 4:30 p.m.

Committee Meetings:

Assessment Development Committee: Open Session—9:45 a.m. to 12:15 p.m.

Committee on Standards, Design and Methodology: Open Session—9:45 a.m. to 12:15 p.m.

Reporting and Dissemination Committee: Open Session—9:45 a.m. to 12:15 p.m.

May 16

Nominations Committee: Closed Session—7:45 a.m. to 8:15 a.m.

Full Board: Open Session—8:30 a.m. to 10 a.m.

Location: Hyatt at Olive 8, 1635 8th Avenue, Seattle, WA 98101.

FOR FURTHER INFORMATION CONTACT: Munira Mwalimu, Operations Officer, National Assessment Governing Board, 800 North Capitol Street, NW., Suite 825, Washington, DC 20002-4233, Telephone: (202) 357-6938.

SUPPLEMENTARY INFORMATION: The National Assessment Governing Board is established under section 412 of the National Education Statistics Act of 1994, as amended.

The Board is established to formulate policy guidelines for the National Assessment of Educational Progress (NAEP). The Board's responsibilities include selecting subject areas to be assessed, developing assessment specifications and frameworks, developing appropriate student achievement levels for each grade and subject tested, developing standards and procedures for interstate and national comparisons, developing guidelines for reporting and disseminating results, and releasing initial NAEP results to the public.

On May 14, 2009, the Assessment Development Committee will meet in closed session from 8:30 a.m. to 10:30 a.m. to review secure grades 8 and 12 test items for the 2010 National Assessment of Educational Progress (NAEP) Writing Pilot. The meeting must be conducted in closed session as disclosure of proposed test items for the writing pilot would significantly impede implementation of the NAEP program, and is therefore protected by exemption 9(B) of section 552b(c) of Title 5 U.S.C.

The Ad Hoc Committee on NAEP Testing and Reporting on Students with Disabilities and English Language Learners will meet in open session from 2 p.m. to 4 p.m. Thereafter, the Executive Committee will meet in open session from 4:30 p.m. to 5 p.m. and in closed session from 5 p.m. to 6 p.m.

During the closed session the Executive Committee will receive a briefing from the National Center for Education Statistics (NCES) on options for NAEP contracts covering the 2008-2012 assessment years, based on funding for Fiscal Year 2009-2010. The discussion of contract options and costs will address the implications for congressionally mandated goals and adherence to Board policies on NAEP assessments. This part of the meeting must be conducted in closed session because public discussion of this information would disclose independent government cost estimates and contracting options, adversely impacting the confidentiality of the contracting process. Public disclosure of information discussed would significantly impede implementation of the NAEP contracts, and is therefore protected by exemption 9(B) of section 552b(c) of Title 5 U.S.C.

The second portion of the closed session of the Executive Committee is for discussion of staff appointments and actions. These discussions pertain solely to internal personnel rules and practices of an agency and will disclose information of a personal nature where disclosure would constitute an unwarranted invasion of personal privacy. As such, the discussions are protected by exemptions 2 and 6 of section 552b(c) of Title 5 U.S.C.

On May 15, the full Board will meet in open session from 8:30 a.m. to 9:30 a.m. The Board will review and approve the agenda and the March 2009 Board meeting minutes. Following these actions and following welcome remarks from Seattle hosts, the Governing Board will receive a report from the Interim Executive Director of the Governing Board, and hear an update on the work of NCES.

On May 15, three of the Board's standing committees—the Assessment Development Committee, the Reporting and Dissemination Committee, and the Committee on Standards, Design and Methodology will meet in open sessions from 9:45 a.m. to 12:15 p.m.

On May 15 from 12:30 p.m. to 1:30 p.m. the full Board will meet in closed session to receive a briefing on the NAEP 2008 Arts Report Card from the Associate Commissioner of NCES. The Governing Board will be provided with embargoed data on the Arts Report Card that cannot be discussed in an open meeting prior to their official release. From 1:30 p.m. to 2:45 p.m., the full Board will receive an update from NCES on NAEP participation and motivation issues on the 2009 Math, Reading, and Science assessments. The participation and motivation issues pertain to the assessment results and cannot be discussed in open session prior to their release. Both these sessions must therefore be conducted in closed session as premature disclosure of data would significantly impede implementation of the NAEP program, and is therefore protected by exemption 9(B) of section 552b(c) of Title 5 U.S.C.

From 3 p.m. to 3:45 p.m. the Board will receive a briefing on the Governing Board/Council of Chief State School Officers Policy Task Force from the Task Force Chair Joe Willhoft, and Assistant Superintendent of Washington Office of Public Instruction. From 3:45 p.m. to 4:30 p.m. the Board will receive an update on the NAEP 2012 Technological Literacy Framework Project. The May 15 session of the Board meeting is scheduled to adjourn at 4:30 p.m.

On May 16, the Nominations Committee will meet in closed session from 7:45 a.m. to 8:15 a.m. to review and discuss confidential information regarding nominees received for Board vacancies for terms beginning on October 1, 2009. These discussions pertain solely to internal personnel rules and practices of an agency and will disclose information of a personal nature where disclosure would constitute an unwarranted invasion of personal privacy. As such, the discussions are protected by exemptions 2 and 6 of section 552b(c) of Title 5 U.S.C.

The full Board will meet in open session on May 16 from 8:30 a.m. to 10 a.m. to receive and take action on Committee reports. The May 16, 2009 session of the Board meeting is scheduled to adjourn at 10 a.m.

Detailed minutes of the meeting, including summaries of the activities of the closed sessions and related matters that are informative to the public and consistent with the policy of section 5 U.S.C. 552b(c) will be available to the public within 14 days of the meeting. Records are kept of all Board proceedings and are available for public inspection at the U.S. Department of Education, National Assessment Governing Board, Suite #825, 800 North Capitol Street, NW., Washington, DC, from 9 a.m. to 5 p.m. Eastern Standard Time, Monday through Friday.

Electronic Access to This Document: You may view this document, as well as all other documents of this Department published in the Federal Register, in text or Adobe Portable Document Format (PDF) on the Internet at the following site: http://www.ed.gov/news/fedregister/index.html. To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: April 22, 2009.
Mary Crovo,
Interim Executive Director, National Assessment Governing Board, U.S. Department of Education.

[FR Doc. E9-9596 Filed 4-27-09; 8:45 am]

BILLING CODE 4000-01-P